DEPARTMENT OF THE INTERIOR

Bureau of Land Management

[LLWY910000 L16100000 XX0000]

Notice of Public Meeting; Wyoming Resource Advisory Council

AGENCY: Bureau of Land Management, Interior.

ACTION: Notice of Public Meeting.

SUMMARY: In accordance with the Federal Land Policy and Management Act of 1976 and the Federal Advisory Committee Act of 1972, the U.S. Department of the Interior, Bureau of Land Management (BLM) Wyoming Resource Advisory Council (RAC) will meet as indicated below.

DATES: The meeting will be held March 12, 2014 (1 p.m. to 5:20 p.m.), March 13, 2014 (7:30 a.m. to 5:15 p.m.), and March 14, 2014 (8:00 a.m. to noon).

ADDRESSES: The meeting will be held at the Thermopolis Volunteer Fire Department and Hot Springs County Fire District Fire Station, 400 South 14th Street, Thermopolis, Wyoming. The March 13 meeting will begin with a site visit that will leave from the Best Western Plus Plaza Hotel, 116 East Park Street, Thermopolis, Wyoming.

FOR FURTHER INFORMATION CONTACT: Christian Venhuizen, Wyoming Resource Advisory Council Coordinator, Wyoming State Office, 5353 Yellowstone, Cheyenne, WY 82009; telephone 307-775-6103; email cvenhuizen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming.

Planned agenda topics include discussions on bentonite mining process and reclamation challenges, enhanced oil recovery, off-site mitigation, cultural resource issues, Native American Graves Protection and Repatriation Act, public participation regarding the National Environmental Policy Act, and follow-up to previous meetings.

On Wednesday, March 12, the meeting will begin at 1:00 p.m. at the Thermopolis Volunteer Fire Department and Hot Springs County Fire District Fire Station. On Thursday, March 13, there will be site visits of the bentonite mining site at Meeteetse Draw, the Wyo-Ben Lucerne Bentonite Plant and Legacy Oil Field. The public may attend the site visits, but they must provide their own transportation. The site visit will leave from the Best Western Plus Plaza Hotel, in Thermopolis, at 7:30 a.m. The meeting will resume at the Thermopolis Volunteer Fire Department and Hot Springs County Fire District Fire Station, at 12:30 p.m. On Friday, March 14, the meeting will begin at 8 a.m. at the Thermopolis Volunteer Fire Department and Hot Springs County Fire District Fire Station.

All RAC meetings are open to the public with time allocated for hearing public comments. On Friday, March 14, there will be public comment period beginning at 8:00 a.m. The public may also submit written comments to the RAC. Depending on the number of persons wishing to comment and time available, the time for individual oral comments may be limited. If there are no members of the public interested in speaking, the meeting will move promptly to the next agenda item.

Donald A. Simpson,
State Director.

[FR Doc. 2014-02781 Filed 2-7-14; 8:45 am]

BILLING CODE 4310-22-P